DEPARTMENT OF VETERANS AFFAIRS

[OMB Control No. 2900-New (LGY Surveys)]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to determine veterans and lenders satisfaction with VA Loan Guaranty Service.

DATES: Written comments and recommendations on the proposed collection of information should be received on or before February 11, 2008.

ADDRESSES: Submit written comments on the collection of information through http://www.Regulations.gov or to Nancy J. Kessinger, Veterans Benefits Administration (20M35), Department of Veterans Affairs, 810 Vermont Avenue, NW., Washington, DC 20420 or e-mail to nancy.kessinger@va.gov. Please refer to “OMB Control No. 2900-New (LGY Surveys)” in any correspondence. During the comment period, comments may be viewed online through the Federal Docket Management System (FDMS) at http://www.Regulations.gov.

FOR FURTHER INFORMATION CONTACT: Nancy J. Kessinger at (202) 461-9769 or Fax (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Survey of Veterans Satisfaction with the VA Home Loan Guaranty Process.

b. Loan Guaranty Service, Lender Survey.

c. VA Specially Adapted Housing Program Survey.

d. VA Specially Adapted Housing Program Survey: Eligible Non-Grantee Survey.

OMB Control Number: 2900-New (LGY Surveys).

Type of Review: New collection.

Abstract: The surveys will be used to gather information from veterans and lenders about the VA Loan Guaranty Program. The information collected will allow the VA to determine customer satisfaction with the VA's processes and to make improvements so that the program best serves the needs of eligible veterans. Additionally, VA will use the information collected from eligible users and non-users of the Specially Adapted Housing Grant Program to determine the satisfaction of grant recipients and understand the reasons why certain eligible veterans have not used this benefit.

Affected Public: Individual or Households, and Business or other for-profit.

Estimated Annual Burden:

a. Survey of Veterans Satisfaction with the VA Home Loan Guaranty Process—1,688 hours.

b. Loan Guaranty Service, Lender Survey—250 hours.

c. VA Specially Adapted Housing Program Survey—100 hours.

d. VA Specially Adapted Housing Program Survey: Eligible Non-Grantee Survey—84 hours.

Estimated Average Burden per Respondent:

a. Survey of Veterans Satisfaction with the VA Home Loan Guaranty Process—15 minutes.

b. Loan Guaranty Service, Lender Survey—15 minutes.

c. VA Specially Adapted Housing Program Survey—15 minutes.

d. VA Specially Adapted Housing Program Survey: Eligible Non-Grantee Survey—5 minutes.

Frequency of Response: On occasion.

Estimated Number of Respondents:

a. Survey of Veterans Satisfaction with the VA Home Loan guaranty Process—6,750.

b. Loan Guaranty Service, Lender Survey—1,000.

c. VA Specially Adapted Housing Program Survey—400.

d. VA Specially Adapted Housing Program Survey: Eligible Non-Grantee Survey—700.

Dated: December 5, 2007.
By direction of the Secretary.
Denise McLamb,
Program Analyst, Records Management Service.

[FR Doc. E7-24013 Filed 12-11-07; 8:45 am]

BILLING CODE 8320-01-P